DEPARTMENT OF TRANSPORTATION

Federal Highway Administration

Environmental Impact Statement; Santa Rosa County, FL

AGENCY: Federal Highway Administration (FHWA), DOT.

ACTION: Notice of intent.

SUMMARY: The FHWA is issuing this notice to advise the public that an Environmental Impact Statement (EIS) will be prepared for a proposed highway project in Santa Rosa County, Florida.

FOR FURTHER INFORMATION CONTACT: Ms. Cathy Kendall, AICP, Environmental Specialist, Federal Highway Administration, 545 John Knox Road, Suite 200, Tallahassee, Florida 32303, Telephone: (850) 942-9650.

SUPPLEMENTARY INFORMATION: The FHWA, in cooperation with the Florida Department of Transportation will prepare an EIS for a proposal to improve SR 87 in Santa Rosa County, Florida. The proposed improvement would involve the construction of a new roadway connecting SR 87S to SR 87N. The new roadway would vary between five to eleven miles in length. The improvement is considered necessary to provide connectivity for the existing and projected traffic demand, and to provide a more direct corridor for emergency evacuations from the Gulf Coast.

Alternatives under consideration include (1) taking no action; (2) alternative corridors that would provide for a four-lane rural highway with plans to build two-lanes initially to be widened to a four-lane divided rural facility as needed in the future.

Letters describing the proposed action and soliciting comments will be sent to appropriate Federal, State, and local agencies, and to private organizations and citizens who have expressed interest in this proposal. A series of public meetings will be held between February, 2010 and June, 2013. In addition, a public hearing will be held. Public notice will be given of the time and place of the meetings and hearing. The Draft EIS will be made available for public and agency review and comment. An informal scoping meeting was held at the project site on July 29th, 2010. There are no plans to hold a formal scoping meeting. Scoping will be accomplished by use of the Florida Efficient Transportation Decision Making Process and a series of meetings for agencies and the public.

To ensure that the full range of issues related to the proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding inter-governmental consultation on Federal programs and activities apply to this program.)

Issued on: August 25, 2010.
Martin Knopp,
Division Administrator, FHWA, Federal Administrator, Tallahassee, Florida.

[FR Doc. 2010-21740 Filed 8-30-10; 8:45 am]

BILLING CODE 4910-22-P